DEPARTMENT OF TRANSPORTATION

Federal Aviation Administration

Proposed Technical Standard Order (TSO)-C166, Extended Squitter Automatic Dependent Surveillance—Broadcast (ADS-B) and Traffic Information Service—Broadcast (TIS-B) Equipment Operating on the Radio Frequency of 1090 Megahertz (MHz)

AGENCY: Federal Aviation Administration.

ACTION: Notice of availability and requests for public comment.

SUMMARY: This notice announces the re-issuance of the proposed Technical Standard Order (TSO)-C166, Extended Squitter Automatic Dependent Surveillance-Broadcast (ADS-B) and Traffic Information Service (TIS-B) Equipment Operating on the Radio Frequency of 1090 Megahertz (MHz). Comments received from the initial August 11, 2003, presentation resulted in significant changes to the TSO, including the addition of an Appendix A to address corrections to the proposed RTCA Inc., Document (RTCA/DO)-260A, Minimum Operational Performance Standards for 1090 MHz Extended Squitter Automatic Dependent Surveillance-Broadcast (ADS-B) and Traffic Information Services-Broadcast (TIS-B), dated April 10, 2003. The resulting changes to this proposed TSO tells persons seeking a TSO authorization or letter of design approval what minimum performance standards (MPS) their Extended Squitter ADS-B and TIS-B equipment must meet to be identified with the applicable TSO marking.

DATES: Comments must be received on or before May 31, 2004.

ADDRESSES: Send all comments on the proposed technical standard order to: Federal Aviation Administration (FAA), Aircraft Certification Service, Aircraft Engineering Division, Avionic Systems Branch, AIR-130, 800 Independence Avenues, SW., Washington, DC 20591. ATTN: Mr. Robert Duffer. Or deliver comments to: Federal Aviation Administration, Room 815, 800 Independence Avenue, SW., Washington, DC 20591.

FOR FURTHER INFORMATION CONTACT: Mr. Robert Duffer, Federal Aviation Administration, Aircraft Certification service, Aircraft Engineering Division, Avionic Systems Branch, AIR-30, 800 Independence Avenue, SW., Washington, DC 20591. Telephone (202) 385-4557, FAX: (202) 385-4651.

SUPPLEMENTARY INFORMATION:

Comments Invited

Interested persons are invited to comment on the proposed TSO listed in this notice by submitting such written data, views, or arguments as they desire to the above specified address. Comments received on the proposed TSO may be examined, before and after the comment closing date, in Room 815, FAA Headquarters Buildings, 800 Independence Avenue, SW., Washington, DC 20591, weekdays except Federal holidays, between 8:30 a.m. and 4:30 p.m. All communications received on or before the closing date will be considered by the Director of the Aircraft Certification Service before issuing the final TSO.

Background

This proposed TSO prescribes the MPS for airborne equipment to support Automatic Dependent Surveillance-Broadcast (ADS-B) using Extended Squitter equipment operating on the frequency of 1090 MHz. ADS-B is a system by which aircraft and certain equipped surface vehicles can share position, velocity, and other information with one another, and with ground-based facilities such as air traffic services via radio broadcast techniques. Extended Squitter ADS-B will also support the reception of Traffic Information Service-Broadcast (TIS-B) messages. Two major classes of 1090 MHz Extended Squitter ADS-B equipment are supported by this proposed TSO; Class A( ) equipment which incorporates both a broadcast and receive subsystem, and Class B( ) equipment which supports broadcast only. It should be noted that upon final issuance of TSO-C166 the FAA will no longer accept applications for the incorporation of 1090 MHz Modes S Extended Squitter Broadcast under TSO-C112, unless the equipment also meets the minimum performance requirements of TSO-C166.

How To Obtain Copies

You may get a copy of the proposed TSO from the Internet at: http://av-info.faa.gov/tso/Tsopro/Proposed.htm. See section entitled FOR FURTHER INFORMATION CONTACT: for the complete address if requesting a copy by mail. You may inspect the RTCA document at the FAA office location listed under ADDRESS. Note however, RTCA documents are copyrighted and may be reproduced without the written consent of RTCA, Inc. You may purchase copies of RTCA, Inc. documents from: RTCA, Inc., 1828 L Street, NW., Suite 815, Washington, DC 20036, or directly form their web-site; http://www.rtca.org/.

Issued in Washington, DC, on April 27, 2004.
Susan J. M. Cabler,
Assistant Manager, Aircraft Engineering Division, Aircraft Certification Service.

[FR Doc. 04-10123 Filed 5-3-04; 8:45 am]

BILLING CODE 4910-13-M